DEPARTMENT OF VETERANS AFFAIRS

Loan Guaranty: Assistance to Eligible Individuals in Acquiring Specially Adapted Housing; Cost-of-Construction Index

AGENCY: Department of Veterans Affairs.

ACTION: Notice.

SUMMARY: The Department of Veterans Affairs (VA) announces that the aggregate amounts of assistance available under the Specially Adapted Housing (SAH) grant program will increase by 3.995 percent for fiscal year (FY) 2014.

FOR FURTHER INFORMATION CONTACT: John Bell, III Assistant Director for Loan Policy and Valuation, Department of Veterans Affairs, 810 Vermont Avenue NW., Washington, DC 20420, (202) 632-8786. (This is not a toll-free number.)

SUPPLEMENTARY INFORMATION: In accordance with 38 U.S.C. 2102(e), 2102A(b)(2), and 38 CFR 36.4412(c), the Secretary of Veterans Affairs announces the aggregate amounts of assistance available to eligible veterans and servicemembers eligible for SAH program grants during FY 2014.

Public Law 110-289, the Housing and Economic Recovery Act of 2008, authorized the Secretary to increase the aggregate amounts of SAH assistance annually based on a residential home cost-of-construction index. The Secretary uses the Turner Building Cost Index for this purpose.

In the most recent quarter for which the Turner Building Cost Index is available, Quarter 2 FY 2013, the index showed an increase of 3.995 percent over the index value in Quarter 2 FY 2012. Pursuant to the authority cited above, therefore, the aggregate amounts of assistance of SAH grants will increase by 3.995 percent during FY 2014.

Public Law 112-154, the Honoring America's Veterans and Caring for Camp Lejeune Families of 2012, requires that the same percentage of increase apply to grants authorized pursuant to 38 U.S.C. 2102A. As such, the maximum amount of assistance of these grants, which are called grants for Temporary Residence Adaptation (TRA grants), will be increased by 3.995 percent during FY 2014.

Specially Adapted Housing: Aggregate Amounts of Assistance Available During Fiscal Year 2014

Section 2101(a) Grants and TRA Grants

The aggregate amount of assistance available for SAH grants made pursuant to 38 U.S.C. 2101(a) will be $67,555 during FY 2014. The maximum TRA grant made to an individual who satisfies the eligibility criteria under section 2101(a) will be $29,657 during FY 2014.

Section 2101(b) Grants and TRA Grants

The aggregate amount of assistance available for SAH grants made pursuant to 38 U.S.C. 2101(b) will be $13,511 during FY 2014. The maximum TRA grant made to an individual who satisfies the eligibility criteria under section 2101(b) will be $5,295 during FY 2014.

Approved: September 25, 2013.
Jose D. Riojas,
Chief of Staff, Department of Veterans Affairs.

[FR Doc. 2013-24134 Filed 10-1-13; 8:45 am]

BILLING CODE 8320-01-P